DEPARTMENT OF AGRICULTURE

Forest Service

Notice of meeting

AGENCY: USDA Forest Service.

ACTION: Notice of meeting.

Siskiyou Resource Advisory Committee (RAC)

SUMMARY: The Siskiyou Resource Advisory Committee will meet on Friday, July 31, 2009 to recommend Title II projects for fiscal year 2010 under the reauthorized Secure Rural Schools and Community Self Determination Act, Public Law 110-343. The meeting will be held at Smith River Rancheria (Howonquet Hall Community Center), 101 Indian Court, Smith River, CA 95567. It begins at 9:30 a.m., ends at 4:30 p.m.; the open public comments begin at 11 a.m. and end at 11:30 a.m. Written comments may be submitted prior to the meeting and delivered to Designated Federal Official, Scott Conroy, Rogue River-Siskiyou National Forest, 3040 Biddle Road, Medford, OR 97504.

FOR FURTHER INFORMATION CONTACT: Rogue River-Siskiyou National Forest Public Affairs Patty Burel at telephone: (541) 618-2113, e-mail: pburel@fs.fed.us, or USDA Forest Service, Patty Burel, 3040 Biddle Road, Medford, OR 97504.

Dated: June 18, 2009.
Scott Conroy,
Forest Supervisor, Rogue River-Siskiyou National Forest.

[FR Doc. E9-14985 Filed 6-25-09; 8:45 am]

BILLING CODE 3410-11-M